DEPARTMENT OF THE INTERIOR

National Park Service

National Register of Historic Places; Notification of Pending Nominations and Related Actions

Nominations for the following properties being considered for listing or related actions in the National Register were received by the National Park Service before January 27, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by February 28, 2007.

J. Paul Loether,
Chief, National Register of Historic Places/National Historic Landmarks Program.

CONNECTICUT

Fairfield County

Glenville Historic Rd., Roughly along Glen Ridge Rd., Glenville Rd., Glenville St., Pemberwick Rd., Riversville Rd., and Weaver St., Greenwich, 07000107

Hartford County

Rocky Hill Center Historic District, Roughly bounded by Old Main, Pratt & Washington Sts., Glastonbury Ave., and Riverview Rd., Rocky Hill, 07000111

Litchfield County

Bridge #2305, Main St. over Burton Brook, Salisbury, 07000109

New Haven County

Depot Street Bridge, Depot St., Beacon Falls, 07000108

New London County

Park, William, House, 330 Main St., Sprague, 07000106

Rossie Velvet Mill Historic District, Roughly along Bruggerman Court, Bruggerman Place, Greenmanville Ave., Hinckly St., Pleasant St., Rossie St. Velvet St., Stonington, 07000110

FLORIDA

Hillsborough County

Jackson Rooming House, 851 Zack St., Tampa, 07000112

ILLINOIS

Cook County

Falconer Bungalow Historic District, (Chicago Bungalows MPS) Roughly bounded by W. Wellington Ave., N. Lamon Ave., N. Laramie Ave., and the alley N of W. Diversey Ave., Chicago, 07000114

Edgar County

Shaw—Van Gilder House, 306 E. Crawford St., Paris, 07000116

Kankakee County

Kankakee County Courthouse, 450 E. Court St., Kankakee, 07000115

Livingston County

Illinois State Police Office, Pontiac, 15551 Old U.S. 66, Pontiac, 07000117

IOWA

Pottawattamie County

Chevra B'nai Yisroel Synagogue, 618 Mynster St., Council Bluffs, 07000113

MASSACHUSETTS

Plymouth County

Plympton Village Historic District, Main St., Elm St., Parsonage Rd., Mayflower Rd., Plympton, 07000120

MISSISSIPPI

Lowndes County

Owen—Richardson—Owen House, 1709 9th St. S, Columbus, 07000122

MISSOURI

Clark County

Shrine of St. Patrick Church, Erin Circle, St. Patrick, 07000121

N. MARIANA ISLANDS

Northern Islands Municipality

Brown Beach One Japanese Fortifications, Unai Loaloa Kattan, Unai Laolao Kattan, 07000123

RHODE ISLAND

Newport County

Friends Meeting House and Cemetery, 234 W. Main Rd., Little Compton, 07000124

Wilbor House, 548 W. Main Rd., Little Compton, 07000125

SOUTH CAROLINA

Anderson County

Denver Downs Farmstead, 4915 Clemson Blvd., Anderson, 07000118

Greenwood County

Kinard House, 227 W. Main St., Ninety Six, 07000119

Richland County

Wade Hampton State Office Building, (Segregation in Columbia, South Carolina MPS) 1015 Sumter St., Columbia, 07000126

TEXAS

Dallas County

Monroe Shops, 2111 S. Corinth St., Dallas, 07000130

Goliad County

Fair Oaks Ranch, 14509 U.S. 59 S, Berclair, 07000127

Smith County

Glass, D.R., Library at Texas College, 2404 N. Grand Ave., Tyler, 07000128

President's House at Texas College, (Tyler, Texas MPS) 2404 N. Grand Ave., Tyler, 07000131

Tyler City Hall, (Tyler, Texas MPS) 212 N. Bonner Ave., Tyler, 07000129

VIRGINIA

Albemarle County

Bel Aire, 4710 Dickerson Rd., Charlottesville, 07000132

Fredericksburg Independent City

Matthew Fontaine Maury School, 900 Barton School, Fredericksburg (Independent City), 07000133

WASHINGTON

King County

Saint Edward Seminary, 14445 Juanita Dr. NE, Kenmore, 07000137

San Juan County

San Juan Lime Company—Cowell's, 1567 West Side Rd. N, Friday Harbor, 07000136

Thurston County

General Administration Building, 210 11th Ave. SW, Olympia, 07000134

Georgia—Pacific Plywood Company Office, 600 Capitol Way N., Olympia, 07000135

[FR Doc. E7-2394 Filed 2-12-07; 8:45 am]

BILLING CODE 4312-51-P